DEPARTMENT OF JUSTICE

Notice of Lodging of Consent Decrees Under the Comprehensive Environmental Response, Compensation, and Liability Act and the Solid Waste Disposal Act

Notice is hereby given that the following proposed consent decrees relating to the Baldwin Park Operable Unit of the San Gabriel Valley Superfund Sites, Areas 1-4, located in and near the cities of Azusa, Irwindale, Baldwin Park, and Covina in Los Angeles County, California (“BPOU”), were lodged on October 26, 2005, with the United States District Court for the Central District of California: (1) United States and California Department of Toxic Substances Control (“DTSC”) v. Lockheed Martin Corporation, et al., Case No. CV05-7519 GPS (AJWx) (C.D. Cal.), (2) United States and DTSC v. Leach International Corporation, Case No. CV05-7515 CAS (Ex) (C.D. Cal.), (3) United States and DTSC v. Allegiance Healthcare Corporation, et al., Case No. CV05-7520 DSF (JWJX) (C.D. Cal.), (4) United States v. Phaostron Instrument and Electronic Company, Case No. CV05-7522 JFW (SSx) (C.D. Cal.), (5) United States v. Azusa Land Reclamation Co., Inc., et al., Case No. CV05-7518 MMM (JTLx) (C.D. Cal.), (6) United States v. Aerojet-General Corporation, et al., Case No. CV05-7516 PA (JWJx) (C.D. Cal.), and (7) United States and DTSC v. White & White Properties, et al., Case No. CV05-7521 GHK (PLAx) (C.D. Cal.).

The first four consent decrees listed above represent a settlement of claims brought against Lockheed Martin Corporation, Mobil Oil Corporation, The Valspar Corporation, Leach International Corporation, Allegiance Healthcare Corporation, Philip Morris USA Inc., and Phaostron Instrument and Electronic Company pursuant to the Comprehensive Environmental Response, Compensation, and Liability Act (“CERCLA”), 42 U.S.C. 9601-9675, and section 7003 of the Solid Waste Disposal Act, as amended by the Resource Conservation and Recovery Act of 1976 and the Hazardous and Solid Waste Amendments of 1984 (collectively “RCRA”), 42 U.S.C. 6973. In the complaints filed on October 19, 2005, the United States and DTSC sought injunctive relief for performance of response actions under CERCLA section 106, 42 U.S.C. 9606, and RCRA section 7003, 42 U.S.C. 6973, and reimbursement for response costs under CERCLA section 107, 42 U.S.C. 9607, incurred by the United States Environmental Protection Agency (“EPA”), the United States Department of Justice (“DOJ”), and DTSC, in response to releases of hazardous substances at the BPOU. The last three consent decrees listed above represent a settlement of claims brought pursuant to CERCLA against Aerojet-General Corporation, GenCorp, Inc., Azusa Land Reclamation Co., Inc., Fairchild Holding Corp., Hartwell Corporation, Oil & Solvent Process Company, Reichhold, Inc., Winco Enterprises Inc., and entities related to White & White Properties. In the complaints filed on October 19, 2005, the United States and DTSC sought reimbursement for response costs under CERCLA section 107, 42 U.S.C. 9607, incurred by EPA, DOJ, and DTSC, in response to releases of hazardous substances at the BPOU.

The proposed consent decrees require the Settling Defendants to pay $14,328,388 to the United States for response costs incurred by EPA and DOJ and 88 percent of the United States' future oversight costs, and to pay $292,105 to DTSC for response costs incurred by DTSC. The first four proposed consent decrees include a covenant-not-to-sue under sections 106 and 107 of CERCLA, 42 U.S.C. 9606, 9607, and under section 7003 of RCRA, 42 U.S.C. 6973. The last three proposed consent decrees include a covenant-not-to-sue under CERCLA section 107, 42 U.S.C. 9607.

The Department of Justice will receive for a period of thirty (30) days from the date of this publication comments relating to the consent decrees. Comments should be addressed to the Assistant Attorney General, Environment and Natural Resources Division, P.O. Box 7611, U.S. Department of Justice, Washington, DC 20044-7611, with a copy to Robert Mullaney, U.S. Department of Justice, 301 Howard Street, Suite 1050, San Francisco, CA 94105, and should refer to the BPOU Consent Decrees, D.J. Ref. #90-11-2-354. For the settlements involving RCRA, commenters may request an opportunity for a public meeting in the affected area, in accordance with section 7003(d) of RCRA, 42 U.S.C. 6973(d).

The consent decrees may be examined at U.S. EPA Region 9, Office of Regional Counsel, 75 Hawthorne Street, San Francisco, California. During the public comment period, the consent decrees may also be examined on the following Department of Justice Web site: http://www.usdoj.gov/enrd/open.html. A copy of the consent decrees may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $662.25 (25 cents per page reproduction cost) payable to the U.S. Treasury. (A copy of the decrees, exclusive of attachments, may be obtained for $53.00.)

Ellen M. Mahan,
Assistant Section Chief, Environmental Enforcement Section, Environment and Natural Resources Division, United States Department of Justice.

[FR Doc. 05-21880 Filed 11-1-05; 8:45 am]

BILLING CODE 4410-15-M